DEPARTMENT OF ENERGY

Federal Energy Regulatory Commission

Combined Notice of Filings #1

Take notice that the Commission received the following electric corporate filings:

Docket Numbers: EC26-18-000.

Applicants: Heritage Power, LLC.

Description: Application for Authorization Under Section 203 of the Federal Power Act of Heritage Power, LLC.

Filed Date: 10/29/25.

Accession Number: 20251029-5276.

Comment Date: 5 p.m. ET 11/19/25.

Docket Numbers: EC26-19-000.

Applicants: Amite Solar, LLC.

Description: Application for Authorization Under Section 203 of the Federal Power Act of Amite Solar, LLC.

Filed Date: 10/30/25.

Accession Number: 20251030-5323.

Comment Date: 5 p.m. ET 11/20/25.

Docket Numbers: EC26-20-000.

Applicants: Consumers Energy Company, Confluence Hydro, LLC, Confluence Hydro Alcona, LLC, Confluence Hydro Calkins Bridge, LLC, Confluence Hydro Cooke, LLC, Confluence Hydro Croton, LLC, Confluence Hydro Five Channels, LLC, Confluence Hydro Foote, LLC, Confluence Hydro Hardy, LLC, Confluence Hydro Hodenpyl, LLC, Confluence Hydro Loud, LLC, Confluence Hydro Mio, LLC, Confluence Hydro Rogers, LLC, Confluence Hydro Tippy, LLC, Confluence Hydro Webber, LLC.

Description: Joint Application for Authorization Under Section 203 of the Federal Power Act of Consumers Energy Company, et al.

Filed Date: 10/30/25.

Accession Number: 20251030-5324.

Comment Date: 5 p.m. ET 11/20/25.

Docket Numbers: EC26-21-000.

Applicants: Alpha Generation, LLC, Arthur Kill Power LLC, Clean Energy Future—Lordstown, LLC, Connecticut Jet Power LLC, Devon Power LLC, GB II Connecticut LLC, GB II New Haven LLC, GB II New York LLC, Generation Bridge Connecticut Holdings, LLC, Generation Bridge M&M Holdings, LLC, Kleen Energy Systems, LLC, Long Beach Generation LLC, Middletown Power LLC, Montville Power LLC, Oswego Harbor Power LLC, Parkway Generation Keys Energy Center LLC, Parkway Generation Operating LLC, Parkway Generation Sewaren Urban Renewal Entity LLC, CPPIB AlphaGen US LLC.

Description: Joint Application for Authorization Under Section 203 of the Federal Power Act of Alpha Generation, LLC, et al.

Filed Date: 10/30/25.

Accession Number: 20251030-5326.

Comment Date: 5 p.m. ET 12/15/25.

Docket Numbers: EC26-22-000.

Applicants: Indigo Generation LLC.

Description: Application for Authorization Under Section 203 of the Federal Power Act of Indigo Generation, LLC.

Filed Date: 10/31/25.

Accession Number: 20251031-5365.

Comment Date: 5 p.m. ET 11/21/25.

Docket Numbers: EC26-23-000.

Applicants: Union Electric Company d/b/a Ameren Missouri.

Description: Application for Authorization Under Section 203 of the Federal Power Act of Union Electric Company.

Filed Date: 11/3/25.

Accession Number: 20251103-5144.

Comment Date: 5 p.m. ET 11/24/25.

Take notice that the Commission received the following exempt wholesale generator filings:

Docket Numbers: EG26-40-000.

Applicants: MRG Goody Solar Project, LLC.

Description: MRG Goody Solar Project, LLC submits Notice of Self-Certification of Exempt Wholesale Generator Status.

Filed Date: 10/31/25.

Accession Number: 20251031-5348.

Comment Date: 5 p.m. ET 11/21/25.

Docket Numbers: EG26-41-000.

Applicants: Chalk Bluff Solar Energy LLC.

Description: Chalk Bluff Solar Energy LLC submits Notice of Self-Certification of Exempt Wholesale Generator Status.

Filed Date: 10/31/25.

Accession Number: 20251031-5349.

Comment Date: 5 p.m. ET 11/21/25.

Take notice that the Commission received the following electric rate filings:

Docket Numbers: ER10-1781-012; ER22-381-019; ER21-2715-009; ER25-1272-001; ER21-714-015; ER22-399-010; ER19-2626-014.

Applicants: Rosewater Wind Farm LLC, Meadow Lake Solar Park LLC, Indiana Crossroads Wind Farm LLC, Gibson Solar, LLC, Fairbanks Solar Energy Center LLC, Dunns Bridge Solar Center, LLC, Northern Indiana Public Service Company.

Description: Notice of Non-Material Change in Status of Northern Indiana Public Service Company, et al.

Filed Date: 10/30/25.

Accession Number: 20251030-5328.

Comment Date: 5 p.m. ET 11/20/25.

Docket Numbers: ER11-2508-031; ER19-1417-006; ER21-568-004; ER21-577-005; ER20-2047-004.

Applicants: Ormond Beach Power, LLC, Morgantown Power, LLC, Lanyard Power Holdings, LLC, GenOn Power Midwest, LP, GenOn Energy Management, LLC.

Description: Notice of Change in Status of GenOn Energy Management, LLC, et al.

Filed Date: 10/29/25.

Accession Number: 20251029-5267.

Comment Date: 5 p.m. ET 11/19/25.

Docket Numbers: ER19-2425-002; ER24-1676-003.

Applicants: MEMS Industrial Supply LLC, Mitsui & Co. Energy Marketing and Services (USA), Inc.

Description: Notice of Non-Material Change in Status of Mitsui & Co. Energy Marketing and Services (USA), Inc., et al.

Filed Date: 10/30/25.

Accession Number: 20251030-5332.

Comment Date: 5 p.m. ET 11/20/25.

Docket Numbers: ER20-2122-001.

Applicants: Carolina Power Partners, LLC.

Description: Compliance filing: Compliance to 144 to be effective 11/1/2025.

Filed Date: 10/31/25.

Accession Number: 20251031-5320.

Comment Date: 5 p.m. ET 11/21/25.

Docket Numbers: ER21-630-007; ER15-2224-009.

Applicants: Solar Star Colorado III, LLC,325MK 8ME LLC.

Description: Notice of Change in Status of 325MK 8ME LLC, et al.

Filed Date: 10/30/25.

Accession Number: 20251030-5329.

Comment Date: 5 p.m. ET 11/20/25.

Docket Numbers: ER23-168-003.

Applicants: Cross Town Energy Storage, LLC.

Description: Notice of Change in Status of Cross Town Energy Storage, LLC.

Filed Date: 10/30/25.

Accession Number: 20251030-5330.

Comment Date: 5 p.m. ET 11/20/25.

Docket Numbers: ER25-2283-001; ER24-551-002; ER24-541-002; ER22-1779-003; ER24-553-002.

Applicants: Martin County Solar Project, LLC, Marion County Solar Project, LLC, Kiowa County Solar Project, LLC, Elkhart County Solar Project, LLC, Choctaw Fields Solar Project, LLC.

Description: Notice of Non-Material Change in Status of Choctaw Fields Solar Project, LLC, et al.

Filed Date: 10/29/25.

Accession Number: 20251029-5278.

Comment Date: 5 p.m. ET 11/19/25.

Docket Numbers: ER26-404-000.

Applicants: Public Service Company of Colorado.

Description: 205(d) Rate Filing: 2025-10-31—CORE—NITSA/NOA—778—802—0.0.0 to be effective 1/1/2026.

Filed Date: 10/31/25.

Accession Number: 20251031-5295.

Comment Date: 5 p.m. ET 11/21/25.

Docket Numbers: ER26-405-000.

Applicants: Pacific Gas and Electric Company.

Description: 205(d) Rate Filing: WDT SA 275: City and County of San Francisco Q3 2025 Filing to be effective 9/30/2025.

Filed Date: 10/31/25.

Accession Number: 20251031-5303.

Comment Date: 5 p.m. ET 11/21/25.

Docket Numbers: ER26-406-000.

Applicants: NorthWestern Corporation.

Description: Tariff Amendment: Cancellation of SA 921 1st Rev Firm PTP with PGE to be effective 12/1/2025.

Filed Date: 10/31/25.

Accession Number: 20251031-5310.

Comment Date: 5 p.m. ET 11/21/25.

Docket Numbers: ER26-407-000.

Applicants: Southwest Power Pool, Inc.

Description: 205(d) Rate Filing: Submission of Tariff Revisions to Create New Pricing Zones (RR 665) to be effective 12/19/2025.

Filed Date: 10/31/25.

Accession Number: 20251031-5312.

Comment Date: 5 p.m. ET 11/21/25.

Docket Numbers: ER26-408-000.

Applicants: Entergy Louisiana, LLC, Entergy Mississippi, LLC, Entergy New Orleans, LLC, Entergy Texas, Inc., Entergy Arkansas, LLC.

Description: 205(d) Rate Filing: Entergy Arkansas, LLC submits tariff filing per 35.13(a)(2)(iii: Entergy OpCos Depreciation Rates Update—Transmission and General Plan to be effective 1/1/2026.

Filed Date: 10/31/25.

Accession Number: 20251031-5317.

Comment Date: 5 p.m. ET 11/21/25.

Docket Numbers: ER26-409-000.

Applicants: Wisconsin Power and Light Company.

Description: 205(d) Rate Filing: Order No. 898 Compliance to be effective 1/1/2025.

Filed Date: 10/31/25.

Accession Number: 20251031-5325.

Comment Date: 5 p.m. ET 11/21/25.

Docket Numbers: ER26-410-000.

Applicants: Chalk Bluff Solar Energy LLC.

Description: Initial Rate Filing: MBR Application to be effective 1/1/2026.

Filed Date: 10/31/25.

Accession Number: 20251031-5333.

Comment Date: 5 p.m. ET 11/21/25.

Docket Numbers: ER26-411-000.

Applicants: NorthWestern Colstrip 370Pu LLC.

Description: 205(d) Rate Filing: Master PPA and Confirmation with Mercuria Energy America to be effective 1/1/2026.

Filed Date: 10/31/25.

Accession Number: 20251031-5342.

Comment Date: 5 p.m. ET 11/21/25.

Docket Numbers: ER26-412-000.

Applicants: Midcontinent Independent System Operator, Inc.

Description: 205(d) Rate Filing: 2025-11-03_SA 4389 Termination of DEI-Deriva Energy Solar E&P (J1721) to be effective 11/4/2025.

Filed Date: 11/3/25.

Accession Number: 20251103-5074.

Comment Date: 5 p.m. ET 11/24/25.

Docket Numbers: ER26-413-000.

Applicants: Southwestern Public Service Company, Southwest Power Pool, Inc.

Description: 205(d) Rate Filing: Southwestern Public Service Company submits tariff filing per 35.13(a)(2)(iii: 4514 AC Ranch Solar & SPS Facilities Service Agreement to be effective 1/3/2026.

Filed Date: 11/3/25.

Accession Number: 20251103-5098.

Comment Date: 5 p.m. ET 11/24/25.

Docket Numbers: ER26-414-000.

Applicants: Southwest Power Pool, Inc.

Description: 205(d) Rate Filing: Revisions to Implement the Consolidated Planning Process to be effective 3/1/2026.

Filed Date: 11/3/25.

Accession Number: 20251103-5149.

Comment Date: 5 p.m. ET 11/24/25.

Take notice that the Commission received the following electric securities filings:

Docket Numbers: ES26-16-000.

Applicants: Portland General Electric Company.

Description: Application Under Section 204 of the Federal Power Act for Authorization to Issue Securities of Portland General Electric Company.

Filed Date: 10/29/25.

Accession Number: 20251029-5275.

Comment Date: 5 p.m. ET 11/19/25.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 3, 2025.
Carlos D. Clay,
Deputy Secretary.

[FR Doc. 2025-20858 Filed 11-24-25; 8:45 am]

BILLING CODE 6717-01-P